DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of four individuals and four entities whose property and interests in property have been blocked pursuant to the Foreign Narcotics Kingpin Designation Act (“Kingpin Act”) (21 U.S.C. 1901-1908, 8 U.S.C. 1182).

DATES: The designation by the Acting Director of OFAC of the four individuals and four entities identified in this notice pursuant to section 805(b) of the Kingpin Act is effective on May 7, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 7, 2014, the Acting Director of OFAC designated the following four individuals and four entities whose property and interests in property are blocked pursuant to section 805(b) of the Kingpin Act.

Individuals

1. LOUIE, Daniel Maurice; DOB 23 Dec 1955; POB Kapuskasing, Ontario, Canada; nationality Canada; Passport QH005189 (Canada); Driver's License No. L6802-15365-51223 (Canada); Pilot License Number PL00825 (Barbados) (individual) [SDNTK] (Linked To: LEADING EDGE SOURCING CORPORATION; Linked To: RESEARCH FX CONSULTANTS LIMITED; Linked To: SOURCE1HERBS).

2. LOUIE, Kevin Gim; DOB 01 May 1976; POB Canada; citizen Canada; Passport QA762643 (Canada) (individual) [SDNTK] (Linked To: LEADING EDGE SOURCING CORPORATION; Linked To: RESEARCH FX CONSULTANTS LIMITED; Linked To: SOURCE1HERBS).

3. LOUIE, Francine Denise (a.k.a. LOUIE, Francine Denise Marie; a.k.a. SAWYER, Francine Denise); DOB 17 Sep 1958; POB Ontario, Canada; citizen Canada; Passport QD872059 (Canada) (individual) [SDNTK].

4. PRIMUS, Tramayne John; DOB 22 Dec 1986; POB Bridgetown, Barbados; citizen Barbados; Passport 0592043 (Barbados); alt. Passport R212475 (Barbados) (individual) [SDNTK] (Linked To: LEADING EDGE SOURCING CORPORATION).

Entities

1. BOYLE CHEMICAL CO., LTD. (a.k.a. SHANGHAI BOYLE CHEMICAL CO., LTD.), Rm. 402, No.12, Lane 429, Pudong New Area, Shanghai, China; Building 12, No. 3802 ShenGang Road, Xinfei Corporation Home, SongJiang District, Shanghai 201611, China; Block C11, Xinfei Enterprises Home, No. 3, Shanghai 201611, China; Room 520-522, No. 135, Dongfang Road, Pudong New District, Shanghai 200120, China; Web site http://www.boylechem.com; alt. Web site http://annaboylechem.globalimporter.net; Registration ID 310106000205236 (China) [SDNTK].

2. LEADING EDGE SOURCING CORPORATION (a.k.a. SOURCE1WELLNESS), Plaza 2000 Building, 10th Floor, Calle 50, Panama City 0834-1987, Panama; P.O. Box 831, 34 Hudson Bay Avenue, Kirkland Lake, Ontario P2N 1Z3, Canada; Web site http://lescpanama.com; alt. Web site http://www.sourceonewellness.com; RUC # 22565211782546 (Panama) [SDNTK].

3. RESEARCH FX CONSULTANTS LIMITED, 3076 Rosegrove Road, Swastika, Ontario P0K 1T0, Canada; 34 Hudson Bay Avenue, Kirkland Lake, Ontario P2N 2H9, Canada; Box 831, Kirkland Lake, Ontario P2N 3K4, Canada; Tax ID No. 002235933 (Canada) [SDNTK].

4. SOURCE1HERBS, 3076 Rosegrove Road, Swastika, Ontario P0K 1T0, Canada; 34 Hudson Bay Street, Kirkland Lake, Ontario P2N 2H9, Canada; P.O. Box 3067, Holetown, St. James, Barbados; 14 Satjay Bridgetown Center, Victoria Street, Bridgetown, Barbados; 301 Palm Beach Condominiums, Hastings, Christ Church, Barbados; Web site http://www.source1herbs.com; Tax ID No. 180300642 (Canada); alt. Tax ID No. 200363331 (Canada) [SDNTK].

Dated: May 7, 2014.
Barbara C. Hammerle,
Acting Director, Office of Foreign Assets Control.

[FR Doc. 2014-11110 Filed 5-13-14; 8:45 am]

BILLING CODE 4811-AL-P